DEPARTMENT OF THE INTERIOR

National Park Service

[NPS-WASO-NRNHL-0512-10255; 2200-3200-665]

National Register of Historic Places; Notification of Pending Nominations and Related Actions

Nominations for the following properties being considered for listing or related actions in the National Register were received by the National Park Service before April 28, 2012. Pursuant to section 60.13 of 36 CFR Part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington, DC 20005; or by fax, 202-371-6447. Written or faxed comments should be submitted by June 4, 2012. Before including your address, phone number, email address, or other personal identifying information in your comment, you should be aware that your entire comment—including your personal identifying information—may be made publicly available at any time. While you can ask us in your comment to withhold your personal identifying information from public review, we cannot guarantee that we will be able to do so.

J. Paul Loether,
Chief, National Register of Historic Places/National Historic Landmarks Program.

ARKANSAS

Pulaski County

Central High School Neighborhood Historic District (Boundary Increase), Roughly bounded by W. 17th St., Dr. Martin Luther King Jr. Dr., Wright Ave., & S. Summit & S. Battery Sts., Little Rock, 12000320

FLORIDA

Orange County

Orlando Utilities Commission Administration Building, 500 S. Orange St., Orlando, 12000321

ILLINOIS

Boone County

Belvidere North State Street Historic District, State St. between Hurlbut St. & Kishwaukee R., Belvidere, 12000324

Belvidere South State Street Historic District, State St. between Logan Ave. & Madison St., Belvidere, 12000325

Jackson County

Liberty Theater, 1333 Walnut, Murphysboro, 12000322

Riverside Park Bandshell, 22nd & Commercial Sts., Murphysboro, 12000323

IOWA

Des Moines County

Manufacturing and Wholesale Historic District, Roughly 209 N. 3rd to 231 S. 3rd & 219 to 425 Valley Sts., Burlington, 12000326

Harrison County

Siebels' Department Store—Boyer Valley Bank, 501-505 Walker St., Woodbine, 12000327

NEW YORK

Monroe County

Michelsen, George J. Furniture Factory, 182 Ave. D, Rochester, 12000328

New York County

Hotel Albert, 23 E. 10th St., Manhattan, 12000329

OHIO

Franklin County

United States Post Office and Courthouse, 85 Marconi Blvd., Columbus, 12000330

PUERTO RICO

Ponce Municipality

Ponce YMCA Building, (Rafael Rios Rey MPS) 7843 Calle Nazaret Urbanizacion Santa Maria, Ponce, 12000331

RHODE ISLAND

Providence County

Heaton and Cowing Mill, 1115 Douglas Ave., Providence, 12000332

WISCONSIN

Bayfield County

Lake Owen Archeological District, Address Restricted, Drummond, 12000333

[FR Doc. 2012-12023 Filed 5-17-12; 8:45 am]

BILLING CODE 4312-51-P